DEPARTMENT OF STATE

[Public Notice Number 3410]

Shipping Coordinating Committee, Facilitation Committee; Notice of Meeting

The Shipping Coordinating Committee (SHC) will conduct an open meeting at 9:30 a.m. on Wednesday, October 11, 2000, in room 1303 at U.S. Coast Guard Headquarters, 2100 Second Street, SW, Washington, DC, 20593-0001.

The purpose of the meeting is to review the agenda items to be considered at the twenty-eighth session of the Facilitation Committee (FAL 28) of the International Maritime Organization (IMO), which is scheduled for October 30-November 3, 2000, at the IMO headquarters in London. Proposed U.S. positions on the agenda items for FAL 28 will be discussed.

The major items for discussion for FAL 28 will include the following:

—Convention on Facilitation of International Maritime Traffic

—Consideration and adoption of proposed amendments to the Annex to the Convention

—Electronic Data Interchange (EDI) messages for the clearance of ships

—Application of the Committee's Guidelines

—General review of the Convention

—Formalities connected with the arrival, stay and departure of ships

—Formalities related to cargo—Facilitation aspects of the multimodal transport of dangerous goods

—Formalities connected with the arrival, stay and departure of persons—Stowaways

—Facilitation aspects of other IMO forms and certificates

—Ship-port interface

—Technical co-operation sub-program for facilitation

Members of the public may attend this meeting up to the seating capacity of the room.

Interested persons may seek information by writing: Chief, Office of Standards Evaluation and Development, U.S. Coast Guard Headquarters, Commandant (G-MSR), room 1400, 2100 Second Street, SW, Washington, DC, 20593-0001 or by calling Mr. David A. Du Pont at: (202) 267-0971.

Dated: September 13, 2000.
Stephen Miller,
Executive Secretary, Shipping Coordinating Committee, U.S. Department of State.

[FR Doc. 00-24179 Filed 9-19-00; 8:45 am]

BILLING CODE 4710-07-P